ENVIRONMENTAL PROTECTION AGENCY

40 CFR Part 52

[EPA-R05-OAR-2022-0974; FRL-12039-03-R5]

Air Plan Approval; Minnesota; Second Period Regional Haze Plan; Extension of Comment Period

AGENCY: Environmental Protection Agency (EPA).

ACTION: Proposed rule; extension of public comment period.

SUMMARY: The Environmental Protection Agency (EPA) is extending the comment period for a proposed rule published July 11, 2024. The current comment period for the proposed rule was scheduled to close on August 12, 2024. In response to a request in a public comment, EPA is extending the comment period for the proposed action to September 11, 2024.

DATES: The comment period for the proposed rule published on July 11, 2024, at 89 FR 56827 is extended. Comments must be received on or before September 11, 2024.

ADDRESSES: Submit your comments, identified by Docket ID No. EPA-R05-OAR-2022-0974 at https://www.regulations.gov, or via email to langman.michael@epa.gov. Additional instructions to comment can be found in the notice of proposed rulemaking published July 11, 2024 (89 FR 56827).

FOR FURTHER INFORMATION CONTACT: Matt Rau, Air and Radiation Division (AR-18J), Environmental Protection Agency, Region 5, 77 West Jackson Boulevard, Chicago, Illinois 60604, (312) 886-6524, rau.matthew@epa.gov.

SUPPLEMENTARY INFORMATION: On July 11, 2024, EPA proposed to approve the Regional Haze State Implementation Plan revision submitted by the Minnesota Pollution Control Agency on December 20, 2022, as satisfying applicable requirements under the Clean Air Act and EPA's Regional Haze Rule for the program's second implementation period. In response to a request in a public comment, EPA is extending the comment period for 30 days.

Dated: July 25, 2024.
Debra Shore,
Regional Administrator, Region 5.

[FR Doc. 2024-16754 Filed 7-30-24; 8:45 am]

BILLING CODE 6560-50-P